DEPARTMENT OF ENERGY

Federal Energy Regulatory Commission

[Docket Nos. ER03-119-000, ER03-120-000, ER03-121-000, ER03-122-000, ER03-123-000, ER03-124-000, ER03-125-000, ER03-126-000, ER03-127-000, ER03-128-000, ER03-129-000, ER03-130-000, ER03-131-000, ER03-135-000, ER03-136-000, and EL03-46-000]

Southern Company Services, Inc.; Notice of Initiation of Proceeding and Refund Effective Date

February 28, 2003.

Take notice that on January 31, 2003, the Commission issued an order in the above-indicated dockets initiating a proceeding under section 206 of the Federal Power Act.

The refund effective date will be 60 days after publication of this notice in the Federal Register.

Magalie R. Salas,
Secretary.

[FR Doc. 03-5376 Filed 3-6-03; 8:45 am]

BILLING CODE 6717-01-P